NUCLEAR REGULATORY COMMISSION

[Docket No. 50-184]

National Institute of Standards and Technology; National Bureau of Standards Reactor; Notice of Availability of the Final Environmental Impact Statement for License Renewal of NBSR

Notice is hereby given that the U.S. Nuclear Regulatory Commission (NRC, Commission) has published a final Environmental Impact Statement (EIS) for License Renewal of the operating license TR-5 for an additional 20 years of operation for the National Bureau of Standards Reactor (NBSR) located on the National Institute of Standards and Technology (NIST) campus in upper Montgomery County, Maryland. Possible alternatives to the proposed action (license renewal) include no action, constructing a new reactor to replace the NBSR capabilities, and using alternative research facilities.

The final EIS is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.html. The Accession Number for the final EIS is ML072970861. Persons who do not have access to ADAMS, or who encounter problems in accessing the documents located in ADAMS, should contact the NRC's PDR reference staff by telephone at 1-800-397-4209, or 301-415-4737, or by e-mail at pdr@nrc.gov.

FOR FURTHER INFORMATION CONTACT: Mr. Dennis Beissel, Environmental Review Branch, Division of License Renewal, Office of Nuclear Reactor Regulation, U.S. Nuclear Regulatory Commission, Mail Stop O-11F1, Washington, DC 20555-0001. Mr. Beissel may be contacted at the aforementioned telephone number or e-mail address.

Dated at Rockville, Maryland, this 6th day of December, 2007.
For the Nuclear Regulatory Commission.
Eric Benner,
Branch Chief, Environmental Review Branch, Division of License Renewal, Office of Nuclear Reactor Regulation.

[FR Doc. E7-24172 Filed 12-12-07; 8:45 am]

BILLING CODE 7590-01-P